NATIONAL ARCHIVES AND RECORDS ADMINISTRATION

Agency Information Collection Activities: Proposed Collection; Comment Request

AGENCY: National Archives and Records Administration (NARA).

ACTION: Notice.

SUMMARY: NARA is giving public notice that the agency proposes to request use of NA Form 14116, Customer Request for Information and Order, a web-based form to be completed by members of the public who wish to either request printed order forms for copies of genealogical records or to obtain information about NARA's archival holdings or services. The public is invited to comment on the proposed information collection pursuant to the Paperwork Reduction Act of 1995.

DATES: Written comments must be received on or before February 1, 2002 to be assured of consideration.

ADDRESSES: Comments should be sent to: Paperwork Reduction Act Comments (NHP), Room 4400, National Archives and Records Administration, 8601 Adelphi Rd, College Park, MD 20740-6001; or faxed to 301-713-6913; or electronically mailed to tamee.fechhelm@nara.gov.

FOR FURTHER INFORMATION CONTACT: Requests for additional information or copies of the proposed information collection and supporting statement should be directed to Tamee Fechhelm at telephone number 301-713-6730, or fax number 301-713-6913.

SUPPLEMENTARY INFORMATION: Pursuant to the Paperwork Reduction Act of 1995 (Pub. L. 104-13), NARA invites the general public and other Federal agencies to comment on proposed information collections. The comments and suggestions should address one or more of the following points: (a) Whether the proposed information collection is necessary for the proper performance of the functions of NARA; (b) the accuracy of NARA's estimate of the burden of the proposed information collection; (c) ways to enhance the quality, utility, and clarity of the information to be collected; and (d) ways, including the use of information technology, to minimize the burden of the collection of information on respondents. The comments that are submitted will be summarized and included in the NARA request for Office of Management and Budget (OMB) approval. All comments will become a matter of public record. In this notice, NARA is soliciting comments concerning the following information collection:

Title: Customer Request for Information and Order Forms.

OMB number: 3095—New.

Agency form number: NA Form 14116.

Type of review: Regular.

Affected public: Individuals and households.

Estimated number of respondents: 130,000.

Estimated time per response: 5 minutes.

Frequency of response: On occasion.

Estimated total annual burden hours: 10,833 hours.

Abstract: The form is a web-based form to be completed by members of the public who wish to either request printed order forms for copies of genealogical records or to obtain information about NARA's archival holdings or services. Customers who request printed forms indicate the type and quantity of form wanted. Those who need information about NARA's archival holdings choose a subject heading to help describe their request. The form entails no burden other than that necessary to identify the customer, the date, the customer's address, and the nature of the request. This information is used only to facilitate answering the request and is not retained after the request is completed. The information is not used for any subsequent purpose.

Dated: November 27, 2001.
L. Reynolds Cahoon,
Assistant Archivist for Human Resources and Information Services.

[FR Doc. 01-29819 Filed 11-30-01; 8:45 am]

BILLING CODE 7515-01-U